INTERNATIONAL TRADE COMMISSION

[Inv. No. 337-TA-565]

In the Matter of Certain Ink Cartridges and Components Thereof; Notice of Investigation

AGENCY: International Trade Commission.

ACTION: Institution of investigation pursuant to 19 U.S.C. 1337.

SUMMARY: Notice is hereby given that a complaint was filed with the U.S. International Trade Commission on February 17, 2006, under section 337 of the Tariff Act of 1930, as amended, 19 U.S.C. 1337, on behalf of Epson Portland Inc. of Hillsboro, Oregon, Epson America, Inc. of Long Beach, California, and Seiko Epson Corporation of Japan. Supplemental letters were filed on March 10 and 14, 2006. The complaint alleges violations of section 337 in the importation into the United States, the sale for importation, and the sale within the United States after importation of certain ink cartridges and components thereof by reason of infringement of claim 7 of U.S. Patent No. 5,615,957; claims 18, 81, 93, 149, 164 and 165 of U.S. Patent No. 5,622,439; claims 83 and 84 of U.S. Patent No. 5,158,377; claims 19 and 20 of U.S. Patent No. 5,221,148; claims 29, 31, 34 and 38 of U.S. Patent No. 5,156,472; claim 1 of U.S. Patent No. 5,488,401; claims 1, 2, 3 and 9 of U.S. Patent No. 6,502,917; claims 1, 31 and 34 of U.S. Patent No. 6,550,902; and claims 1, 10 and 14 of U.S. Patent No. 6,955,422. The complaint further alleges that an industry in the United States exists or is in the process of being established as required by subsection (a)(2) of section 337.

The complainant requests that the Commission institute an investigation and, after the investigation, issue a general exclusion order and cease and desist orders.

ADDRESSES: The complaint, except for any confidential information contained therein, is available for inspection during official business hours (8:45 a.m. to 5:15 p.m.) in the Office of the Secretary, U.S. International Trade Commission, 500 E Street, SW., Room 112, Washington, DC 20436, telephone 202-205-2000. Hearing impaired individuals are advised that information on this matter can be obtained by contacting the Commission's TDD terminal on 202-205-1810. Persons with mobility impairments who will need special assistance in gaining access to the Commission should contact the Office of the Secretary at 202-205-2000. General information concerning the Commission may also be obtained by accessing its Internet server at http://www.usitc.gov. The public record for this investigation may be viewed on the Commission's electronic docket (EDIS) at http://edis.usitc.gov.

FOR FURTHER INFORMATION CONTACT: Kevin Baer, Esq., Office of Unfair Import Investigations, U.S. International Trade Commission, telephone 202-205-2221.

Authority: The authority for institution of this investigation is contained in section 337 of the Tariff Act of 1930, as amended, and in section 210.10 of the Commission's Rules of Practice and Procedure, 19 CFR 210.10 (2005).

Scope of Investigation: Having considered the complaint, the U.S. International Trade Commission, on March 16, 2006, Ordered that -(1) Pursuant to subsection (b) of section 337 of the Tariff Act of 1930, as amended, an investigation be instituted to determine whether there is a violation of subsection (a)(1)(B) of section 337 in the importation into the United States, the sale for importation, or the sale within the United States after importation of certain ink cartridges or component parts thereof by reason of infringement of one or more of claim 7 of U.S. Patent No. 5,615,957; claims 18, 81, 93, 149, 164 and 165 of U.S. Patent No. 5,622,439; claims 83 and 84 of U.S. Patent No. 5,158,377; claims 19 and 20 of U.S. Patent No. 5,221,148; claims 29, 31, 34 and 38 of U.S. Patent No. 5,156,472; claim 1 of U.S. Patent No. 5,488,401; claims 1, 2, 3 and 9 of U.S. Patent No. 6,502,917; claims 1, 31 and 34 of U.S. Patent No. 6,550,902; and claims 1, 10 and 14 of U.S. Patent No. 6,955,422; and whether an industry in the United States exists or is in the process of being established as required by subsection (a)(2) of section 337.

(2) For the purpose of the investigation so instituted, the following are hereby named as parties upon which this notice of investigation shall be served:

(a) The complainants are—

Epson Portland Inc., 3950 NW Aloclek Place, Hillsboro, Oregon 97124.

Epson America, Inc., 3840 Kilroy Airport Way, Long Beach, California 9080.

Seiko Epson Corporation, 3-3-5 Owa, Suwa-Shi, Nagano-Ken, 392-8502, Japan.

(b) The respondents are the following entities alleged to be in violation of section 337, and are the parties upon which the complaint is to be served:

Glory South Software Manufacturing Inc., 6481 Orangethorpe Ave., Suite 6, Buena Park, California 90620.

Butterfly Print Image Corp. Ltd., Units 811-812, 8/F Park Sun Building, 103-107 Wo Yi Hop Road, Kwai Chung, N.T., Hong Kong.

Ink Lab (H.K.) Co., Ltd., Flat A 11/F, Lucky Horse Industrial Building, 64 Tong Mi Road, Mongkok, Kowloon, Hong Kong.

Nectron International, Ltd., 725 Park Two, Sugar Land, Texas 77478.

Mipo International Ltd., Flat B, 11F, Wong Tze Building, 71 Hoe Yuen Road, Kwun Tong, Kowloon, Hong Kong.

Mipo America Ltd., 3100 N.W. 72nd Avenue # 106, Miami, Florida 33122.

Nine Star Image Co. Ltd., No. 63 Mingzhubei Road, Xiangzhou District, Zhuhai, Guangdong, China 519 075.

Nine Star Technology Company Ltd., 4620 Mission Boulevard, Montclair, California 91763.

Town Sky Inc., 5 South Linden Avenue, Suite 4, South San Francisco, California 94080.

Zhuhai Gree Magneto-Electric Co. Ltd., No. 205, West Shi Hua Road, Zhuhai City, Guangdong Province, China 519020.

MMC Consumables Inc., 20456 Carrey Road, Walnut, California 91789.

Tully Imaging Supplies Ltd., Room 902, 9/F, Island Place Tower, 510 King's Road, North Point, Hong Kong.

Inkjetwarehouse.com Inc., 106 Powder Mill Road, Canton, Connecticut 06019.

Wellink Trading Co., Ltd., Avn. Venceslau Morais S/N, 11-P, Edf. C. Ind., Keck Seng Building 2, Macao, China.

Ribbon Tree (Macao) Trading Co., Ltd., Avn. Venceslau Morais S/N, 11-P, Edf. C. Ind., Keck Seng Building 2, Macao, China.

Ribbon Tree (USA) Inc., dba Cana-Pacific Ribbons Inc., 6920 Salashan Parkway, Unit D107, Ferndale, Washington 98248.

Apex Distributing Inc., 6920 Salashan Parkway, Unit D107, Ferndale, Washington 98248.

Artech GMBH, Feldbachacker 10, D-44 149, Dorfmund, Germany.

Ink Tec Co. Ltd., 1124, Shingil-Dong Danwon-Gu, Ansan-City, Kyungki-Do, 425-839, Korea.

Ink Tec America Corporation, 7020 Troy Hill Drive, Suite H, Elkridge, Maryland 21075.

Dataproducts USA LLC, 2001 Anchor Court, Thousand Oaks, California 91320.

Gerald Chamales Corp., dba Rhinotek Computer Products, 2301 E. Del Amo Blvd., Compton, California 90220.

Master Ink Co., Ltd., 604 Po Lung Centre, 11 Wang Chiu Road, Kowloon Bay, Hong Kong.

AcuJet U.S.A., Inc., 128 S. 6th Avenue, City of Industry, California 91746.

(c) Kevin Baer, Esq., Office of Unfair Import Investigations, U.S. International Trade Commission, 500 E Street, SW., Suite 401, Washington, DC 20436, who shall be the Commission investigative attorney, party to this investigation; and

(3) For the investigation so instituted, the Honorable Paul J. Luckern is designated as the presiding administrative law judge.

Responses to the complaint and the notice of investigation must be submitted by the named respondents in accordance with section 210.13 of the Commission's Rules of Practice and Procedure, 19 CFR 210.13. Pursuant to 19 CFR 201.16(d) and 210.13(a), such responses will be considered by the Commission if received not later than 20 days after the date of service by the Commission of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondents, to find the facts to be as alleged in the complaint and this notice and to enter an initial determination and a final determination containing such findings, and may result in the issuance of a limited exclusion order or cease and desist order or both directed against the respondent.

Issued: March 17, 2006.
By order of the Commission.
Marilyn R. Abbott,
Secretary to the Commission.

[FR Doc. E6-4196 Filed 3-22-06; 8:45 am]

BILLING CODE 7020-02-P